LIBRARY OF CONGRESS

Copyright Office

37 CFR Part 210

[Docket No. 2022-5]

Termination Rights, Royalty Distributions, Ownership Transfers, Disputes, and the Music Modernization Act

AGENCY: U.S. Copyright Office, Library of Congress.

ACTION: Final rule.

SUMMARY: The U.S. Copyright Office is issuing a final rule adjusting certain due dates set in an earlier rule regarding how the Copyright Act's derivative works exception to termination rights applies to the statutory mechanical blanket license established by the Music Modernization Act.

DATES: This rule is effective August 30, 2024.

FOR FURTHER INFORMATION CONTACT: Rhea Efthimiadis, Assistant to the General Counsel, by email at meft@copyright.gov or telephone at 202-707-8350.

SUPPLEMENTARY INFORMATION: On July 9, 2024, the Copyright Office published a final rule regarding how the Copyright Act's derivative works exception to termination rights (the “Exception”) applies to the statutory mechanical blanket license established by the Music Modernization Act.¹ Among other things, the rule required the Mechanical Licensing Collective (“MLC”) to engage in corrective royalty adjustments for royalties distributed under its earlier, erroneous interpretation of the Exception. The rule specified separate due dates for the MLC and relevant parties to complete certain steps in this process. The due dates were set by referencing the rule's publication date (e.g., thirty or sixty days after the rule's publication date). Three days after the rule's publication, the Office of the Federal Register issued a correction to one of those dates, which it had miscalculated.²

¹ 89 FR 56586 (July 9, 2024).

² 89 FR 57093 (July 12, 2024).

On August 15, 2024, the MLC contacted the Office to ask about the calculation of the first due date in the corrective adjustment process based on a discrepancy between the date in the rule's regulatory text and its preamble. To resolve any confusion created by the discrepancy and ensure that parties have adequate time to participate in the corrective adjustment process, the Office is adjusting the relevant due dates for all parties by extending each by approximately thirty days from the original dates provided in the rule's regulatory text.

List of Subjects in 37 CFR Part 210

Copyright, Phonorecords, Recordings.

Final Regulations

For the reasons set forth in the preamble, the U.S. Copyright Office amends 37 CFR part 210 as follows:

PART 210—COMPULSORY LICENSE FOR MAKING AND DISTRIBUTING PHYSICAL AND DIGITAL PHONORECORDS OF NONDRAMATIC MUSICAL WORKS

1. The authority citation for part 210 continues to read as follows:

Authority: 17 U.S.C. 115, 702.

2. Amend § 210.29 as follows:

a. In paragraph (k)(1)(ii) introductory text, remove “August 8, 2024” and add in its place “September 9, 2024”.

b. In paragraph (k)(1)(iii) introductory text, remove “September 9, 2024” and add in its place “October 9, 2024”.

c. In paragraph (k)(1)(iv)(B), remove “February 9, 2026” and add in its place “March 11, 2026”.

d. In paragraph (k)(1)(v)(A), remove “October 7, 2024” and add in its place “November 6, 2024” and remove “November 6, 2024” and add in its place “December 6, 2024“.

* * * * *

Dated: August 21, 2024.
Shira Perlmutter,
Register of Copyrights and Director of the U.S. Copyright Office.
Approved by:
Carla D. Hayden,
Librarian of Congress.

[FR Doc. 2024-19538 Filed 8-29-24; 8:45 am]

BILLING CODE 1410-30-P